DEPARTMENT OF ENERGY

Federal Energy Regulatory Commission

Combined Notice of Filings #1

Take notice that the Commission received the following electric corporate filings:

Docket Numbers: EC22-73-000.

Applicants: Vansycle II Wind, LLC, FPL Energy Stateline II, Inc.

Description: Joint Application for Authorization Under Section 203 of the Federal Power Act of Vansycle II Wind, LLC, et al.

Filed Date: 6/9/22.

Accession Number: 20220609-5107.

Comment Date: 5 p.m. ET 6/30/22.

Take notice that the Commission received the following electric rate filings:

Docket Numbers: ER10-2881-038; ER15-647-008; ER15-2191-007; ER16-2659-006; ER16-750-008; ER19-2005-002; ER20-136-003; ER21-2287-002.

Applicants: Glass Sands Wind Energy, LLC, Reading Wind Energy, LLC, Wildhorse Wind Energy, LLC, Bethel Wind Farm LLC, Grant Plains Wind, LLC, Grant Wind, LLC, Kay Wind, LLC, Alabama Power Company.

Description: Supplement to December 29, 2021 Triennial Market Power Analysis for Southwest Power Pool Inc. Region of Alabama Power Company, et al.

Filed Date: 6/7/22.

Accession Number: 20220607-5171.

Comment Date: 5 p.m. ET 6/28/22.

Docket Numbers: ER22-680-003.

Applicants: Southern California Edison Company.

Description: Tariff Amendment: Amendment WDAT Enhancements 2021 Revisions “Time Out”—Request for Deferral to be effective 12/31/9998.

Filed Date: 6/9/22.

Accession Number: 20220609-5102.

Comment Date: 5 p.m. ET 6/30/22.

Docket Numbers: ER22-1500-001.

Applicants: Sunflower Electric Power Corporation, Southwest Power Pool, Inc.

Description: Tariff Amendment: Sunflower Electric Power Corporation submits tariff filing per 35.17(b): Deficiency Response-Sunflower Electric Power Corporation Formula Rate Revisions to be effective 6/1/2022.

Filed Date: 6/9/22.

Accession Number: 20220609-5046.

Comment Date: 5 p.m. ET 6/30/22.

Docket Numbers: ER22-1555-000.

Applicants: Mississippi Power Company.

Description: Mississippi Power Company submits response to the May 25, 2022 FERC deficiency notice.

Filed Date: 6/3/22.

Accession Number: 20220603-5171.

Comment Date: 5 p.m. ET 6/24/22.

Docket Numbers: ER22-1717-000.

Applicants: Unitil Power Corp.

Description: Unitil Power Corp. Submits Annual Statement of All Billing Transactions under the Amended Unitil System Agreement for the period January 1, 2021 through December 31, 2021.

Filed Date: 4/28/22.

Accession Number: 20220428-5486.

Comment Date: 5 p.m. ET 6/30/22.

Docket Numbers: ER22-2055-000.

Applicants: Black Hills Colorado Electric, LLC.

Description: § 205(d) Rate Filing: Filing of Standard LGIA with TC Colorado, LLC to be effective 8/8/2022.

Filed Date: 6/8/22.

Accession Number: 20220608-5112.

Comment Date: 5 p.m. ET 6/29/22.

Docket Numbers: ER22-2056-000.

Applicants: Midcontinent Independent System Operator, Inc., American Transmission Company LLC.

Description: § 205(d) Rate Filing: Midcontinent Independent System Operator, Inc. submits tariff filing per 35.13(a)(2)(iii): 2022-06-09_SA 3843 ATC-New Glarus CFA to be effective8/9/2022.

Filed Date: 6/9/22.

Accession Number: 20220609-5018.

Comment Date: 5 p.m. ET 6/30/22.

Docket Numbers: ER22-2057-000.

Applicants: Tampa Electric Company.

Description: § 205(d) Rate Filing: Revision to Real Power Loss Factor—2022 to be effective 7/1/2022.

Filed Date: 6/9/22.

Accession Number: 20220609-5023.

Comment Date: 5 p.m. ET 6/30/22.

Docket Numbers: ER22-2058-000.

Applicants: Midcontinent Independent System Operator, Inc.

Description: § 205(d) Rate Filing: 2022-06-09_SA 3841 UEC-Kelso Solar FSA (J1087) to be effective 8/9/2022.

Filed Date: 6/9/22.

Accession Number: 20220609-5033.

Comment Date: 5 p.m. ET 6/30/22.

Docket Numbers: ER22-2059-000.

Applicants: International Transmission Company.

Description: § 205(d) Rate Filing: Filing of a CIAC Agreement with DTE to be effective 8/9/2022.

Filed Date: 6/9/22.

Accession Number: 20220609-5035.

Comment Date: 5 p.m. ET 6/30/22.

Docket Numbers: ER22-2060-000.

Applicants: Southwest Power Pool, Inc.

Description: § 205(d) Rate Filing: 1166R38 Oklahoma Municipal Power Authority NITSA and NOA to be effective 8/1/2022.

Filed Date: 6/9/22.

Accession Number: 20220609-5045.

Comment Date: 5 p.m. ET 6/30/22.

Docket Numbers: ER22-2061-000.

Applicants: Southwest Power Pool, Inc.

Description: § 205(d) Rate Filing: 2415R16 Kansas Municipal Energy Agency NITSA and NOA to be effective 6/1/2022.

Filed Date: 6/9/22.

Accession Number: 20220609-5048.

Comment Date: 5 p.m. ET 6/30/22.

Docket Numbers: ER22-2062-000.

Applicants: Niagara Mohawk Power Corporation, New York Independent System Operator, Inc.

Description: § 205(d) Rate Filing: Niagara Mohawk Power Corporation submits tariff filing per 35.13(a)(2)(iii: 205 Joint SGIA among NYISO and NMPC for the Hills Solar SA No. 2646 to be effective 5/25/2022.

Filed Date: 6/9/22.

Accession Number: 20220609-5057.

Comment Date: 5 p.m. ET 6/30/22.

Docket Numbers: ER22-2063-000.

Applicants: Southwest Power Pool, Inc.

Description: § 205(d) Rate Filing: 3330R4 City of Nixa, Missouri NITSA NOAs to be effective 6/1/2022.

Filed Date: 6/9/22.

Accession Number: 20220609-5059.

Comment Date: 5 p.m. ET 6/30/22.

Docket Numbers: ER22-2064-000.

Applicants: Alabama Power Company, Georgia Power Company, Mississippi Power Company.

Description: § 205(d) Rate Filing: Alabama Power Company submits tariff filing per 35.13(a)(2)(iii: Flint River Solar (Flint River Project) LGIA Filing to be effective 6/1/2022.

Filed Date: 6/9/22.

Accession Number: 20220609-5091.

Comment Date: 5 p.m. ET 6/30/22.

Docket Numbers: ER22-2065-000.

Applicants: Goldman Sachs Renewable Power Marketing LLC.

Description: § 205(d) Rate Filing: Revised Market-Based Rate Tariff to be effective 6/10/2022.

Filed Date: 6/9/22.

Accession Number: 20220609-5099.

Comment Date: 5 p.m. ET 6/30/22.

Docket Numbers: ER22-2066-000.

Applicants: RE McKenzie 1 LLC.

Description: § 205(d) Rate Filing: Revised Market-Based Rate Tariff to be effective 6/10/2022.

Filed Date: 6/9/22.

Accession Number: 20220609-5100.

Comment Date: 5 p.m. ET 6/30/22.

Docket Numbers: ER22-2067-000.

Applicants: RE McKenzie 2 LLC.

Description: § 205(d) Rate Filing: Revised Market-Based Rate Tariff to be effective 6/10/2022.

Filed Date: 6/9/22.

Accession Number: 20220609-5101.

Comment Date: 5 p.m. ET 6/30/22.

Docket Numbers: ER22-2068-000.

Applicants: RE McKenzie 3 LLC.

Description: § 205(d) Rate Filing: Revised Market-Based Rate Tariff to be effective 6/10/2022.

Filed Date: 6/9/22.

Accession Number: 20220609-5108.

Comment Date: 5 p.m. ET 6/30/22.

Docket Numbers: ER22-2069-000.

Applicants: RE McKenzie 4 LLC.

Description: § 205(d) Rate Filing: Revised Market-Based Rate Tariff to be effective 6/10/2022.

Filed Date: 6/9/22.

Accession Number: 20220609-5109.

Comment Date: 5 p.m. ET 6/30/22.

Docket Numbers: ER22-2070-000.

Applicants: RE McKenzie 5 LLC.

Description: § 205(d) Rate Filing: Revised Market-Based Rate Tariff to be effective 6/10/2022.

Filed Date: 6/9/22.

Accession Number: 20220609-5112.

Comment Date: 5 p.m. ET 6/30/22.

Docket Numbers: ER22-2071-000.

Applicants: RE McKenzie 6 LLC.

Description: § 205(d) Rate Filing: Revised Market-Based Rate Tariff to be effective 6/10/2022.

Filed Date: 6/9/22.

Accession Number: 20220609-5113.

Comment Date: 5 p.m. ET 6/30/22.

Docket Numbers: ER22-2072-000.

Applicants: RE Mustang 3 LLC.

Description: § 205(d) Rate Filing: Revised Market-Based Rate Tariff to be effective 6/10/2022.

Filed Date: 6/9/22.

Accession Number: 20220609-5115.

Comment Date: 5 p.m. ET 6/30/22.

Docket Numbers: ER22-2073-000.

Applicants: RE Mustang 4 LLC.

Description: § 205(d) Rate Filing: Revised Market-Based Rate Tariff to be effective 6/10/2022.

Filed Date: 6/9/22.

Accession Number: 20220609-5118.

Comment Date: 5 p.m. ET 6/30/22.

Docket Numbers: ER22-2074-000.

Applicants: RE Mustang LLC.

Description: § 205(d) Rate Filing: Revised Market-Based Rate Tariff to be effective 6/10/2022.

Filed Date: 6/9/22.

Accession Number: 20220609-5122.

Comment Date: 5 p.m. ET 6/30/22.

Docket Numbers: ER22-2075-000.

Applicants: RE Rosamond One LLC.

Description: § 205(d) Rate Filing: Revised Market-Based Rate Tariff to be effective 6/10/2022.

Filed Date: 6/9/22.

Accession Number: 20220609-5123.

Comment Date: 5 p.m. ET 6/30/22.

Docket Numbers: ER22-2076-000.

Applicants: RE Rosamond Two LLC.

Description: § 205(d) Rate Filing: Revised Market-Based Rate Tariff to be effective 6/10/2022.

Filed Date: 6/9/22.

Accession Number: 20220609-5124.

Comment Date: 5 p.m. ET 6/30/22.

Take notice that the Commission received the following qualifying facility filings:

Docket Numbers: QF21-1222-001.

Applicants: NextSun Energy Littleton LLC.

Description: Refund Report of NextSun Energy Littleton LLC.

Filed Date: 6/9/22.

Accession Number: 20220609-5049.

Comment Date: 5 p.m. ET 6/30/22.

Docket Numbers: QF21-1223-000.

Applicants: NextSun Energy Rutland LLC.

Description: Refund Report of NextSun Energy Rutland LLC (Park Street Solar).

Filed Date: 6/9/22.

Accession Number: 20220609-5058.

Comment Date: 5 p.m. ET 6/30/22.

Docket Numbers: QF21-1224-000.

Applicants: NextSun Energy Rutland LLC.

Description: Refund Report of NextSun Energy Rutland LLC (Main Street Solar).

Filed Date: 6/9/22.

Accession Number: 20220609-5068.

Comment Date: 5 p.m. ET 6/30/22.

Docket Numbers: QF22-94-000.

Applicants: Renewable Generation LLC (MA).

Description: Refund Report of Renewable Generation LLC (MA).

Filed Date: 6/9/22.

Accession Number: 20220609-5071.

Comment Date: 5 p.m. ET 6/30/22.

Docket Numbers: QF22-95-000.

Applicants: Renewable Generation LLC (MA).

Description: Refund Report of Renewable Generation LLC (MA) [115/G. Fisher].

Filed Date: 6/9/22.

Accession Number: 20220609-5089.

Comment Date: 5 p.m. ET 6/30/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 9, 2022.
Kimberly D. Bose,
Secretary.

[FR Doc. 2022-12908 Filed 6-14-22; 8:45 am]

BILLING CODE 6717-01-P